DEPARTMENT OF COMMERCE

Foreign-Trade Zones Board

[B-51-2012]

Foreign-Trade Zone 32—Miami, Florida; Application for Reorganization Under Alternative Site Framework; Amendment of Application

A request has been submitted to the Foreign-Trade Zones Board (the Board) by the Greater Miami Foreign-Trade Zone, Inc., grantee of FTZ 32, to amend its application to reorganize FTZ 32 zone under the alternative site framework (77 FR 43048-43049, 7/23/2012). The applicant is amending the application to remove existing Site 2 (Beacon Centre Development complex) from the zone. The application otherwise remains unchanged. For further information, contact Camille Evans at Camille.Evans@trade.gov or (202) 482-2350.

Dated: October 10, 2012.
Elizabeth Whiteman,
Acting Executive Secretary.

[FR Doc. 2012-25474 Filed 10-15-12; 8:45 am]

BILLING CODE P